DEPARTMENT OF ENERGY

U.S. Energy Information Administration

Agency Information Collection Activities: Proposed Collection; Comment Request

AGENCY: U.S. Energy Information Administration (EIA), Department of Energy (DOE).

ACTION: Agency Information Collection Activities: Proposed Collection; Comment Request.

SUMMARY: The EIA is soliciting comments on the proposed three-year extension to the Form EIA-886, “Annual Survey of Alternative Fueled Vehicles.”

DATES: Comments must be filed by June 14, 2010. If you anticipate difficulty in submitting comments within that period, contact the person listed below as soon as possible.

ADDRESSES: Send comments to Cynthia Amezcua. To ensure receipt of the comments by the due date, submission by FAX (202-287-1964) or e-mail (cynthia.amezcua@eia.doe.gov) is recommended. The mailing address is Office of Coal, Nuclear, Electric and Alternate Fuels, EI-52, Forrestal Building, U.S. Department of Energy, Washington, DC 20585. Alternatively, Ms. Amezcua may be contacted by telephone at 202-586-1658.

FOR FURTHER INFORMATION CONTACT: Requests for additional information or copies of any forms and instructions should be directed to Cynthia Amezcua at the address listed above. Also see the proposed form and instructions at http://www.eia.doe.gov/cneaf/alternate/page/fed_register/alt_fuels_2011.html.

SUPPLEMENTARY INFORMATION:

I. Background

II. Current Actions

III. Request for Comments

I. Background

The Federal Energy Administration Act of 1974 (15 U.S.C. 761 et seq.) and the DOE Organization Act (42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands and to promote sound policymaking, efficient markets, and public understanding of energy and its interaction with the economy and the environment.

The EIA, as part of its effort to comply with the Paperwork Reduction Act of 1995 (44 U.S.C. 3501, et seq.), provides the general public and other Federal agencies with opportunities to comment on collections of energy information conducted by or in conjunction with the EIA. Also, the EIA will later seek approval for this collection by the Office of Management and Budget (OMB) under section 3507(a) of the Paperwork Reduction Act of 1995.

Form EIA-886, “Annual Survey of Alternative Fueled Vehicles” is an annual survey that collects information on: (1) The number and type of alternative fueled vehicles (AFVs) and advanced technology vehicles that vehicle suppliers made available in the previous calendar year and plan to make available in the following calendar year; (2) The number, type and geographic distribution of AFVs in use in the previous calendar year; (3) the amount and distribution of each type of alternative transportation fuel (ATF) consumed in the previous calendar year; (4) the miles traveled by AFVs; and (5) the number, type, and disposition of retired AFVs in the previous calendar year. The EIA-886 data are collected from suppliers and users of AFVs. The objective of the EIA-886 survey are to: (1) Comply with section 503 of the Energy Policy Act of 1992 (EPACT) that requires the EIA to collect information and provide estimates related to alternative fueled vehicles, alternate transportation fuels, and replacement fuels; (2) Satisfy public requests for information on AFVs and ATFs; (3) Provide Congress with a measure of the extent to which the objectives of EPACT are being achieved; and (4) Provide EIA with a basis for estimating and forecasting total AFV and ATF use in the U.S. The results of the EIA-886 are released annually on EIA's Web site at http://www.eia.doe.gov/fuelrenewable.html.

Please refer to the proposed forms and instructions for more information about the purpose, who must report, when to report, where to submit, the elements to be reported, detailed instructions, provisions for confidentiality, and uses (including possible nonstatistical uses) of the information. For instructions on obtaining materials, see the FOR FURTHER INFORMATION CONTACT section.

II. Current Actions

EIA will be requesting a three-year extension of approval to its Annual Survey of Alternative Fueled Vehicles. EIA proposes to revise the data requested in Section 2, Question 4 regarding vehicle retirements. The proposal is to simplify the reporting of vehicle disposition by collapsing four data fields into the following two categories on vehicle disposition: (1) Number of Vehicles Retired from AFV service, scrapped, or converted to traditional fuel and (2) Number of Vehicles sold or transferred to another entity for use as an AFV. This simplified reporting format will enable EIA to analyze AFV retirements more efficiently and report the number of AFV vehicles in use with greater accuracy.

III. Request for Comments

Prospective respondents and other interested parties should comment on the actions discussed in item II. The following guidelines are provided to assist in the preparation of comments.

As a Potential Respondent to the Request for Information

A. Is the proposed collection of information necessary for the proper performance of the functions of the agency and does the information have practical utility?

B. What actions could be taken to help ensure and maximize the quality, objectivity, utility, and integrity of the information to be collected?

C. Are the instructions and definitions clear and sufficient? If not, which instructions need clarification?

D. Can the information be submitted by the due date?

E. Public reporting burden for this collection is estimated to average 4.4 hours per response. The estimated burden includes the total time necessary to provide the requested information. In your opinion, how accurate is this estimate?

F. The agency estimates that the only cost to a respondent is for the time it will take to complete the collection. Will a respondent incur any start-up costs for reporting, or any recurring annual costs for operation, maintenance, and purchase of services associated with the information collection

G. What additional actions could be taken to minimize the burden of this collection of information? Such actions may involve the use of automated, electronic, mechanical, or other technological collection techniques or other forms of information technology.

H. Does any other Federal, State, or local agency collect similar information? If so, specify the agency, the data element(s), and the methods of collection.

As a Potential User of the Information To Be Collected

A. Is the proposed collection of information necessary for the proper performance of the functions of the agency and does the information have practical utility?

B. What actions could be taken to help ensure and maximize the quality, objectivity, utility, and integrity of the information disseminated?

C. Is the information useful at the levels of detail to be collected?

D. For what purpose(s) would the information be used? Be specific.

E. Are there alternate sources for the information and are they useful? If so, what are their weaknesses and/or strengths?

Comments submitted in response to this notice will be summarized and/or included in the request for OMB approval of the form. They also will become a matter of public record.

Statutory Authority: Section 13(b) of the Federal Energy Administration Act of 1974, Pub. L. 93-275, codified at 15 U.S.C. 772(b).

Issued in Washington, DC, April 8, 2010.
Stephanie Brown,
Director, Statistic and Methods Group, U.S. Energy Information Administration.

[FR Doc. 2010-8497 Filed 4-13-10; 8:45 am]

BILLING CODE 6450-01-P